ENVIRONMENTAL PROTECTION AGENCY

[EPA-R10-OW-2014-0505; FRL-9916-89-Region 10]

Announcement To Extend the Period To Evaluate Public Comments Received on the Proposed Determination for the Pebble Deposit Area, Southwest Alaska

AGENCY: Environmental Protection Agency (EPA).

ACTION: Notice of extension.

SUMMARY: On July 21, 2014, EPA published in the Federal Register (79 FR 42314) a Notice of Proposed Determination, under Section 404(c) of the Clean Water Act, to restrict the use of certain waters in the South Fork Koktuli River, North Fork Koktuli River, and Upper Talarik Creek watersheds in Southwest Alaska as disposal sites for dredged or fill material associated with mining the Pebble deposit, a copper-, gold-, and molybdenum-bearing ore body. The notice established a public comment period that ended September 19, 2014. EPA also held seven hearings throughout Southwest Alaska during the week of August 11, 2014. More than 830 community members participated in the seven hearings, more than 300 of whom provided oral statements. In addition to testimony taken at the hearings, as of September 11, 2014, EPA had received over 155,000 written comments. EPA expects that number will be significantly larger at the conclusion of the comment period on September 19, 2014.

EPA's regulations require that, within 30 days after the conclusion of public hearings (but not before the end of the comment period), the Regional Administrator either withdraw the Proposed Determination or prepare a Recommended Determination (40 CFR 231.5(a)). However, upon a showing of good cause, EPA may extend this time requirement (40 CFR 231.8).

To allow full consideration of the extensive administrative record, including public comments, EPA finds there is good cause to extend the time period provided in 40 CFR 231.5(a). The time period to either withdraw the Proposed Determination or to prepare the Recommended Determination is therefore extended until no later than February 4, 2015.

Dated: September 11, 2014.
Michelle L. Pirzadeh,
Acting Regional Administrator, EPA Region 10.

[FR Doc. 2014-22420 Filed 9-18-14; 8:45 am]

BILLING CODE 6560-50-P